DEPARTMENT OF HEALTH AND HUMAN SERVICES

Health Resources and Services Administration

Agency Information Collection Activities: Proposed Collection: Public Comment Request; Information Collection Request Title: Assessing Strategies To Promote Children's Engagement and Active Participation in Virtual Visits

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than May 3, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Assessing Strategies to Promote Children's Engagement and Active Participation in Virtual Home Visits OMB No. 0915-xxxx—[NEW]

Abstract: The Maternal, Infant, and Early Childhood Home Visiting (MIECHV) Program, authorized by Social Security Act, title V, section 511 (42 U.S.C. 711) and administered by HRSA in partnership with the Administration for Children and Families, supports voluntary, evidence-based home visiting services during pregnancy and for parents with young children up to kindergarten entry. States, tribal entities, and certain nonprofit organizations are eligible to receive funding from the MIECHV Program and have the flexibility to tailor the program to serve the specific needs of their communities. Funding recipients may subaward grant funds to local implementing agencies to provide home visiting services to eligible families in at-risk communities.

This information collection is part of the Assessing and Describing Practice Transitions Among Evidence-Based Home Visiting Programs in Response to the COVID-19 Public Health Emergency Study, which aims to identify and study practices implemented in response to the COVID-19 public health emergency that support evidence-based practice and have the potential to enhance home visiting programming. One of the practices the study identified is strategies home visitors use to engage children and promote their active engagement during virtual visits. The purpose of this information collection is to better understand, through rapid cycle learning, how MIECHV-funded home visiting programs can implement virtual strategies improve child engagement and how home visitors can apply these strategies during in-person service delivery.

Information will be collected in four phases designed to (1) identify virtual child engagement strategies (co-definition phase); (2) pilot test and identify refinements to improve the implementation of strategies (installation phase); (3) iteratively test the strategies with refinements to their implementation (refinement phase); and (4) assess the potential of these child engagement strategies to improve service delivery and promote family engagement and family satisfaction with home visiting programs in both virtual and in-person settings (summary phase). Data collection activities include focus groups, online questionnaires, and review of documents and administrative data.

A 60-day notice published in the Federal Register on December 5, 2023, 88 FR 84340-41. There were no public comments. One home visiting model developer requested copies of the information collection forms.

Need and Proposed Use of the Information: With the end of the COVID-19 public health emergency, most MIECHV-funded home visiting programs have transitioned back to some level of in-person service delivery. However, many continue to offer occasional virtual home visits if warranted and appropriate, such as during inclement weather or due to family and staff health concerns. Understanding the virtual strategies that home visitors used or are using to address the challenges of engaging children during virtual home visits, how these strategies can be implemented, how these strategies and learned lessons can be applied to in-person settings, and how children and families respond to these strategies will be valuable to the field. HRSA intends to use collected information to share evidence-informed resources and strategies that MIECHV awardees can use to optimize children's engagement and active participation and strengthen their home visiting services.

Likely Respondents: Respondents include (1) families who receive home visiting services and (2) MIECHV-funded home visiting program staff, which may include program directors, managers, supervisors, and home visitors.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Program Eligibility Protocol | 16 | 1 | 16 | 1.00 | 16.0
Program Staff Focus Group Protocol 1 (Co-definition Phase) | 24 | 1 | 24 | 1.50 | 36.0
Program Staff Focus Group Protocol 2 (Co-definition Phase) | 24 | 1 | 24 | 1.50 | 36.0
Program Staff Focus Group Protocol (Installation & Refinement Phases) | 24 | 3 | 72 | 1.00 | 72.0
Program Staff Focus Group Protocol (Summary Phase) | 24 | 1 | 24 | 1.00 | 24.0
Family Focus Group Protocol (Co-definition & Summary Phases) | 48 | 1 | 48 | 1.00 | 48.0
Home Visitor Questionnaire (Installation & Refinement Phases) | 40 | 9 | 360 | 0.17 | 61.2
Family Post-Visit Questionnaire (Refinement Phase) | 48 | 6 | 288 | 0.08 | 23.0
Focus Group Participant Characteristics Form (All Phases) | 120 | 1 | 120 | 0.08 | 9.6
Total | 368 |  | 976 |  | 325.8

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2024-07066 Filed 4-2-24; 8:45 am]

BILLING CODE 4165-15-P